DEPARTMENT OF TRANSPORTATION

Research and Special Programs Administration

Office of Hazardous Materials Safety; Notice of Applications for Modification of Exemption

AGENCY: Research and Special Programs Administration, DOT.

ACTION: List of Applications for Modification of Exemptions.

SUMMARY: In accordance with the procedures governing the application for, and the processing of, exemptions from the Department of Transportation's Hazardous Materials Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before February 12, 2001.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with Part 107 of the Federal hazardous materials transportation law (49 U.S.C. 5117(b); 49 CFR 1.53(b)).

Issued in Washington, DC, on January 22, 2001.
J. Suzanne Hedgepeth,
Director, Office of Hazardous Materials Exemptions and Approvals.

Application number | Docket number | Applicant | Modification of exemption
8757-M |  | YZ Systems, Inc., Conroe, TX (See Footnote 1) | 8757
8865-M |  | Carleton Technologies, Inc., Orchard Park, NY (See Footnote 2) | 8865
9758-M |  | The Coleman Company, Inc., Wichita, KS (See Footnote 3) | 9758
10985-M |  | Georgia-Pacific Corporation, Atlanta, GA (See Footnote 4) | 10985
11440-M |  | PPG Industries, Inc., Pittsburgh, PA (See Footnote 5) | 11440
12074-M | RSPA-1998-3841 | Van Hool NV, B-2500 Lier Koningshooikt, BE (See Footnote 6) | 12074
12184-M | RSPA-1998-4886 | Weldship Corporation, Bethlehem, PA (See Footnote 7) | 12184
12266-M | RSPA-1999-5636 | Toyota Motor Sales, U.S.A., Inc., Torrance, CA (See Footnote 8) | 12266
12581-M | RSPA-2000-8387 | Nat'l Aero & Space Admn (Goodard Space Flight Ctr), Greenbelt, MD (See Footnote 9) | 12581
¹ To modify the exemption to authorize a design change of the non-DOT specification stainless cylinder for shipment of compressed gases.
² To modify the exemption to update the packaging language of the non-DOT specification cylinders to include the reclassified pyrotechnic devices for the transportation of compressed gases.
³ To modify the exemption to authorize a design change of the non-refillable, non-DOT specification inside container for the transportation of certain Division 2.1 gases.
⁴ To modify the exemption to allow for the transportation of Division 2.1 materials in tank cars.
⁵ To modify the exemption to authorize the use of plastic pallets for the loading of polyethylene drums or composite packagings transporting certain Division 6.1 materials.
⁶ To modify the exemption to update the filling requirements to include suitable liquid level gauging devices for the transportation of Division 2.1 and 2.2 materials in DOT Specification steel portable tanks.
⁷ To modify the exemption to authorize alternative testing procedures of DOT-3A and DOT-3AA cylinders.
⁸ To modify the exemption to allow for rail freight as an authorized mode of transportation for small quantities of Class 3 materials in non-refillable containers.
⁹ To modify the exemption to include Competent Authority Approval for the transportation of helium in non-DOT specification packaging.

[FR Doc. 01-2402 Filed 1-25-01; 8:45am]

BILLING CODE 4910-60-M